DEPARTMENT OF ENERGY

Federal Energy Regulatory Commission

[Docket No. CP07-131-000]

Williston Basin Interstate Pipeline Company; Notice of Request Under Blanket Authorization

April 18, 2007.

Take notice that on April 9, 2007, Williston Basin Interstate Pipeline Company (Williston Basin), 1250 West Century Avenue, Bismarck, North Dakota 58503, filed in Docket No. CP07-131-000, a prior notice request pursuant to sections 157.205 and 157.210 of the Federal Energy Regulatory Commission's regulations under the Natural Gas Act for authorization to construct and operate mainline natural gas facilities consisting of compression, piping, and measurement, located in Fallon County, Montana, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Specifically, Williston Basin proposes to construct a new compressor station, the Sandstone Creek Compressor Station, comprised of two 1,680 horsepower units, totaling 3,360 horsepower, and appurtenant facilities, including gas and jacket water coolers, measurement, communication and electrical equipment, and station piping. Williston Basin also proposes modification work at the existing Cabin Creek Compressor Station Unit No. 15, which will include a new compressor impeller, modification to the aboveground discharge header station, and a new gas cooler for Unit No. 15 discharge. In addition, Williston Basin proposes to construct approximately 4,800 feet of 6-inch diameter steel pipeline called the Big Gumbo Lateral. Williston Basin estimates the cost of construction to be $6,000,000. Williston Basin states that it has entered into Precedent Agreements which provide that Williston Basin will deliver a Maximum Daily Delivery Quantity of 41,000 equivalent dekatherms per day of firm transportation service during the project's first in-service year November 1, 2007 through October 31, 2008.

Any questions regarding the application should be directed to Keith A. Tiggelaar, Director of Regulatory Affairs, Williston Basin Interstate Pipeline Company, P.O. Box 5601, Bismarck, North Dakota 58506-5601, or call at (701) 530-1560.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the internet in lieu of paper. See 18 CFR 385.2001(a) (1) (iii) and the instructions on the Commission's Web site (http://www.ferc.gov) under the “e-Filing” link.

Kimberly D. Bose,
Secretary.

[FR Doc. E7-7806 Filed 4-24-07; 8:45 am]

BILLING CODE 6717-01-P